DEPARTMENT OF AGRICULTURE

Forest Service

Medford Aspen Project

AGENCY: Forest Service, USDA.

ACTION: Notice of intent to prepare an environmental impact statement.

SUMMARY: The USDA Forest Service, Chequamegon-Nicolet National Forest, Medford-Park Falls Ranger District intends to prepare an environmental impact statement (EIS) to document the analysis and disclose the environmental effects of proposed land management activities, and corresponding alternatives within the Medford Aspen project area. The primary purpose of this proposal is to implement activities consistent with direction in the Chequamegon-Nicolet National Forests Land and Resource Management Plan (Forest Plan) and respond to specific needs identified in the project area.

The project area is located on National Forest System land in the northern portion of the Medford landbase of the Medford-Park Falls Ranger District, approximately 10 miles northwest of Medford, Wisconsin. The legal description for the area is: Township 32 North, Range 3 West, sections 1,12-13, 24; Township 32 North, Range 2 West, sections 3-10, 16-19; Township 32 North, Range 1 West, sections 1-6, 9-10, 12-14; Township 32 North, Range 1 East, sections 4-9, 16-18; Township 33 North, Range 2 West, sections 2-5, 8-11, 13-16, 21-28, 34-35; Township 33 North, Range 1 West, sections 1-3, 10-12, 13, 18-19, 28-35; and Township 33 North, Range 1 East, sections 6-7, 31-32; Fourth Principal Meridian.

DATES: Comments concerning the scope of the analysis must be received within 30 days of publication of this notice to receive timely consideration in the preparation of the draft EIS.

ADDRESSES: Send written comments to Jeanne Higgins, c/o Jane Darnell, Medford-Park Falls Ranger District, 850 N. 8th St., Medford, Wisconsin 54451. Send electronic comments to: jdarnell01@fs.fed.us with a subject line that reads “Medford Aspen Project”.

FOR FURTHER INFORMATION CONTACT: Jane Darnell, Environmental Coordinator, Medford-Park Falls Ranger District, Chequamegon-Nicolet National Forest, USDA Forest Service: telephone 715-748-4875 (or TTY: 711, National Relay System), e-mail jdarnell01@fs.fed.us. To mail correspondence to Jane Darnell, see information in ADDRESSES. Copies of documents may be obtained at the same address. Another means of obtaining information is to visit the Forest Web site at: http://www.fs.fed.us/r9/cnnf/natres/index.html.

SUPPLEMENTARY INFORMATION: The information presented in this notice is included to help the reviewer determine if they are interested in or potentially affected by this proposed project. The information presented in this notice is summarized. Those who wish to comment on this proposal or are otherwise interested in or potentially affected by it are encouraged to review more detailed documents such as the Proposed Action for the Medford Aspen Project (currently available for review) and the draft EIS. See the preceding section of this notice for the person to contact for more detailed information about this project.

Project Background

The Medford Aspen project falls within the area defined in the Chequamegon-Nicolet National Forests 2004 Land and Resource Management Plan (Forest Plan) as Management Area (MA) 1A. Guidance in the Forest Plan identifies this area to be managed for early successional forest communities such as aspen, balsam fir, and paper birch. Forest Plan guidance recommends certain percentages of the aspen be within certain age categories in order to maintain the aspen type and provide a variety of wildlife habitat. Within the project area, about 23 percent of the aspen is 45 years old or older. The Forest Plan recommended percentage of aspen in this age class is between 5 and 15 percent. Aspen is a fairly short lived tree species and as aspen surpasses the age of 45, growth and vigor of the trees start to decline. By 60 years of age, aspen is declining to the point where it looses the ability to regenerate itself. By harvesting aspen before it reaches this stage, the aspen forest type can be maintained.

Purpose and Need for Action

The primary purpose of the Medford Aspen proposal is to implement activities consistent with direction in the Forest Plan and to respond to specific needs identified in the project area. The primary project-specific need is to address the older declining aspen, much of which is approaching 60 years of age and losing the ability to regenerate itself back into productive aspen forest. This need will be met through timber harvest. An associated need is to provide a safe and efficient transportation system near and within the areas being proposed for harvest.

Proposed Action

The proposed land management activities (proposed actions), include the following, with approximate acreage and mileage values:

(1) The following activity addresses the need arising from an abundance of mature, declining aspen in the project area:

Clearcut regeneration harvest on about 1660 acres of aspen in MA 1A has been identified in the proposed action. This even-aged method of harvest removes most trees in the area, which encourages natural regeneration of aspen and other early successional forest species.

(2) The following projects address transportation needs for timber harvest and for providing a safe and efficient transportation system:

About 5 miles of temporary road construction and about 1 mile of permanent road construction is needed to accomplish harvest activities. Temporary logging roads are roads that would be decommissioned and revegetated following project completion.

About 3 miles of existing road would be utilized for the harvest activity and then be decomissioned and revegetated. These roads are not Forest system roads. They were probably utilized for past harvest activity, but since they would not be needed again for many years (20-40), they will be dropped from our road inventory following decommissioning activity.

About 14 miles of existing road would be used and added to the Forest's transportation system. These roads would be maintained to meet future access needs.

Preliminary Issues

Preliminary issues are as follows: Potential effects on some federally threatened or endangered species and Regional Forester Sensitive Species (RFSS); potential effects on heritage resources; potential effects on forest age structure as it relates to forest health and wildlife species; potential effects on water, wetlands, and soils; and some potential economic and social impacts (such as visual quality, recreation).

Possible Alternatives

Alternatives to the proposed action that are currently being considered for display in the draft EIS are as follows: The required No Action alternative and an alternative that harvests more or less of the mature aspen than the proposal.

Nature of the Decision To Be Made

The primary decision will be whether or not to implement the proposed projects or alternatives of the projects within the project area that respond to the purpose and need. The decision may also include additional resource protection measures, monitoring, and whether Forest Plan amendments are needed to implement the decision.

Responsible Official

Jeanne Higgins, Forest Supervisor, Chequamegon-Nicolet National Forest, 1170 4th Avenue South, Park Falls, WI 54552.

Comment Requested

This notice of intent initiates the scoping proces which guides the development of the EIS. Comments in response to this solicitation for information should focus on (1) the proposal; (2) issues or impacts from the proposal; and (3) possible alternatives for addressing issues associated with the proposal. We are especially interested in information that might identify a specific undesired result of implementing the proposed actions.

Comments received in response to this solicitation and subsequent solicitations, including names and addresses of those who comment, will be considered part of the public record and will be available for public inspection. Comments submitted anonymously will be accepted and considered; however, those who submit anonymous comments will not have standing to appeal the subsequent decision under 36 CFR part 215. See the section titled ADDRESSES in this notice for location of where to send comments.

Estimated Dates for Filing

The draft EIS is expected to be filed with the Environmental Protection Agency and be available for public review in December 2007. A 45-day comment period will follow publication of a Notice of Availability of the draft EIS in the Federal Register. Comments received on the draft EIS will be used in preparation of a final EIS. We expect to file the notice of the availability of the final EIS and Record of Decision (ROD) in the Federal Register in April 2008.

Early Notice of the Importance of Public Participation in Subsequent

Environmental Review

The Forest Service believes, at this early stage, it is important to give reviewers notice of several court rulings related to public participation in the environmental review process. First, reviewers of the draft EIS must structure their participation in the environmental review of the proposal so that it is meaningful and alerts an agency to the reviewer's position and contentions. Vermont Yankee Nuclear Power Corp. v. NRDC, 435 U.S. 519, 553 (1978). Also, environmental objections that could be raised at the draft EIS stage but that are not raised until after completion of the final EIS may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45-day comment period so that substantive comments and objections are made available to the Forest Service at a time when it can meaningfully consider them and respond to them in the final EIS.

To assist the Forest Service in identifying and considering issues and concerns on the proposed action, comments on the draft EIS should be as specific as possible. It is also helpful if comments refer to specific pages or chapters of the draft EIS. Comments may also address the adequacy of the draft EIS or the merits of the alternatives formulated and discussed in the draft EIS. Reviewers may wish to refer to the Council on Environmental Quality Regulations for implementing the procedural provisions of the National Environmental Policy Act at 40 CFR 1503.3 in addressing these points.

Authority: 40 CFR 1501.7 and 1508.22; Forest Service Handbook 1909.15, Section 21.

Dated: June 18, 2007.
Jeanne Higgins,
Forest Supervisor.

[FR Doc. E7-12314 Filed 6-25-07; 8:45 am]

BILLING CODE 3410-11-P